ENVIRONMENTAL PROTECTION AGENCY

Meetings of the Local Government Advisory Committee and the Small Communities Advisory Subcommittee

AGENCY: Environmental Protection Agency.

ACTION: Notice.

SUMMARY: The Small Communities Advisory Subcommittee (SCAS) will meet meet in Washington, DC, on Wednesday, December 12, 2012, 11:00 a.m.-3:00 p.m. (EST). The Subcommittee will discuss training related to land use and economic development; decentralized wastewater treatment; and other issues and recommendations to the Administrator regarding environmental issues affecting small communities. The Local Government Advisory Committee (LGAC) will meet in Washington, DC, on Thursday, December 13, 2012, 9:00 a.m.-5:30 p.m. (EST), and Friday, December 14, 2012, 9:00 a.m.-1:00 p.m. (MT).

These are open meetings, and all interested persons are invited to participate. The Subcommittee will hear comments from the public between 2:50 p.m. and 3:00 p.m. on Wednesday, December 12, 2012, and the Committee will hear comments from the public between 3:50 p.m. and 4:00 p.m. on Thursday, December 13, 2012. Individuals or organizations wishing to address the Subcommittee or the Committee will be allowed a maximum of five minutes to present their point of view. Also, written comments should be submitted electronically to davis.catherinem@epa.gov. Please contact the Designated Federal Officer (DFO) at the number listed below to schedule a time on the agenda. Time will be allotted on a first-come first-serve basis, and the total period for comments may be extended if the number of requests for appearances requires it.

ADDRESSES: The Small Communities Advisory Subcommittee and Local Government Advisory Committee meetings will be held at The Old Post Office Pavillion, 1100 Pennsylvania Ave. NW., Washington, DC 20004. Meeting summaries will be available after the meeting online at www.epa.gov/ocir/scas_lgac/lgac_index.htm and can be obtained by written request to the DFO.

FOR FURTHER INFORMATION CONTACT: Local Government Advisory Committee (LGAC) and Small Communities Advisory Subcommittee (SCAS), contact Cathy Davis, Designated Federal Officer, at (202) 564-2703 or email at davis.catherinem@epa.gov.

Information on Services for Those with Disabilities: For information on access or services for individuals with disabilities, please contact Cathy Davis at (202) 564-2703 or email at davis.catherinem@epa.gov. To request accommodation of a disability, please request it 10 days prior to the meeting, to give EPA as much time as possible to process your request.

Dated: November 16, 2012.
Catherine M. Davis,
Designated Federal Officer. Local Government Advisory Committee.

[FR Doc. 2012-29111 Filed 11-30-12; 8:45 am]

BILLING CODE 6560-50-P